COURT SERVICES AND OFFENDER SUPERVISION AGENCY

Privacy Act of 1974; System of Records

AGENCY: Court Services and Offender Supervision Agency (CSOSA).

ACTION: Notice of amendment to system of records.

SUMMARY: Pursuant to provisions of the Privacy Act 1974, as amended, the Court Services and Offender Supervision Agency (hereafter “CSOSA” or “Agency”) is issuing a public notice of its intent to update an existing system of records.

DATES: The update became effective in January 2022. SMART has been operational since its inception without the need for amendment. Comments will be accepted until August 8, 2022.

ADDRESSES: Written comments can be sent by any of the following ways:

• Email: William.Kirkendale@csosa.gov, Include Amended SORN for SMART in the subject line of the message.

• U.S. mail or hand-delivery: CSOSA, ATTN: William Kirkendale, Chief Information Officer, OIT, 800 North Capitol Street NW, Washington, DC 20002. Please include your complete mailing address with your request.

FOR FURTHER INFORMATION CONTACT: William Kirkendale at (202) 220-5426.

SUPPLEMENTARY INFORMATION: This notice serves to update and amend collection, analysis, and maintenance of System of Record for SMART, Supervision and Management Automated Recorded Tracking (hereafter “SMART”), CSOSA-11, 67 FR 11816, Document number 02-609, maintained by the Agency, as a result of an updated system, System of Record Supervision and Management Automated Record Tracking 21 (SMART21). Revisions include: (1) The system has been updated to reflect current name; (2) The system location has been updated due to CSOSA location; and (3) The system manager contact has been updated.

Court Services and Offender Supervision Agency.

William Kirkendale,
Associate Director, Office of Information Technology.

[FR Doc. 2022-13789 Filed 6-27-22; 8:45 am]

BILLING CODE 3129-04-P